DEPARTMENT OF JUSTICE

Antitrust Division

Notice Pursuant to the National Cooperative Research and Production Act of 1993—Cooperative Research Group on Common Rail Fuel Systems

Notice is hereby given that, on August 15, 2007, pursuant to Section 6(a) of the National Cooperative Research and Production Act of 1993, 15 U.S.C. 4301 et seq. (“the Act”), Southwest Research Institute (“SwRI”): Cooperative Research Group on Common Rail Fuel Systems filed written notifications simultaneously with the Attorney General and the Federal Trade Commission disclosing (1) the identities of the participants in the cooperative research project and (2) the nature and objectives of the venture. The notifications were filed for the purpose of invoking the Act's provisions limiting the recovery of antitrust plaintiffs to actual damages under specified circumstances.

Pursuant to Section 6(b) of the Act, the identities of the current participants in the Cooperative Research Group on Common Rail Fuel Systems are: Baldwin Filters, Kearney, NE; Caterpillar, Inc., Mossville, IL; Champion Laboratories, Inc., Albion, IL; Donaldson, Minneapolis, MN; Komatsu, Oyamo-shi, Japan; Racor, Modesto, Ca.

The purpose and nature of the Cooperative Research Group on Common Rail Fuel Systems is to determine the filtration requirements needed to control significant abrasive wear, and to determine the most sensitive areas in the fuel injection system to identify critical components. To attain such, a filtration assessment system and test protocol for testing future systems will be developed. The test protocol will include conditions, such as vibration, to determine environmental factors that may affect the protocol and the protocol will be verified by different degrees of filtration using various common rail systems. A standardized filter test method to meet industry standards will also be recommended.

Membership in this research group remains open, and the participants intend to file additional written notification disclosing all changes in membership or planned activities.

Patricia A. Brink,
Deputy Director of Operations, Antitrust Division.

[FR Doc. 07-5564 Filed 11-06-07; 8:45 am]

BILLING CODE 4410-11-M